OFFICE OF MANAGEMENT AND BUDGET

[OMB Control No. 0348-NEW]

Information Collection; Improving Customer Experience (OMB Circular A-11, Section 280 Implementation)

AGENCY: Office of Management and Budget.

ACTION: Notice; request for comment.

SUMMARY: The Office of Management and Budget (OMB) has under review the following proposed Information Collection Request “Improving Customer Experience (OMB Circular A-11, Section 280 Implementation)” for approval under the Paperwork Reduction Act (PRA).

DATES: Comments must be received by May 16, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information should be directed to Amira Boland, Office of Management and Budget, 725 17th St. NW, Washington, DC 20006, 202-395-0380, or via email to amira.c.boland@omb.eop.gov.

SUPPLEMENTARY INFORMATION: Whether seeking a loan, Social Security benefits, veterans benefits, or other services provided by the Federal Government, individuals and businesses expect Government customer services to be efficient and intuitive, just like services from leading private-sector organizations. Yet on Forrester's 2020 CX Index, the Federal sector's average score is 10.7 points behind the private sector average and lower than any other industry or sector studied. Nearly half of the bottom 5% of the U.S. CX Index Rankings are Federal agencies.

The President's Management Agenda (see https://www.performance.gov/PMA) prioritizes efforts to improve the experience of those the Government serves—all of the people, families, businesses, organizations, and communities across America, especially those communities that are underserved by Government, when they use Government services. This focus on customer experience will not only improve the delivery, efficiency, security, and effectiveness of our Government programs, it will advance equity and enhance everyday interactions with public services and uplift the lives of those who need them the most. To support this, OMB Circular A-11 Section 280 establishes Government-wide standards for mature customer experience organizations in government. In order for Federal programs to design and deliver the experience taxpayers deserve, they must often undertake three general categories of activities: conduct ongoing customer research, gather and share customer feedback, and test services and digital products. Both the PMA and Section 280 charge the President's Management Council—the primary Government-wide body that advises the President and OMB on management issues that span agencies—with the routine designation of cross-agency “life experiences” for improvement (such as turning 65, surviving a natural disaster, or having a child) that do not fit neatly within one agency's mission area.

For these projects, OMB designers and staff, such as those on the Federal Customer Experience team or at the U.S. Digital Service, may lead and coordinate information collections in service of cross-agency life experience improvement efforts. These data collection efforts may be either qualitative or quantitative in nature or may consist of mixed methods. Additionally, data may be collected via a variety of means, including but not limited to electronic or social media, direct or indirect observation (i.e., in person, video, and audio collections), interviews, questionnaires, surveys, and focus groups. OMB will limit its inquiries to data collections that solicit strictly voluntary opinions or responses. Steps will be taken to ensure anonymity of respondents in each activity covered by this request, where appropriate.

The data collected will be evaluated and used to improve the delivery of Federal services and programs and, in particular, those experiences that are more Government-wide in nature. It will include the creation of customer personas, customer journey maps (for definitions of—and more information on—customer personas and journey maps, see https://performance.gov/cx/projects), and reports and summaries of customer feedback data and user insights. It will also provide Government-wide data on customer experience that can be displayed on Performance.gov to help build transparency and accountability of Federal programs to the customers they serve.

As a general matter, these information collections will not result in any new system of records containing privacy information and will not ask questions of a sensitive nature, such as sexual behavior and attitudes, religious beliefs, and other matters that are commonly considered private.

OMB will only submit collections if they meet the following criteria:

• The collections are voluntary;

• The collections are low-burden for respondents (based on considerations of total burden hours or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary and is not retained;

• Information gathered is intended to be used for general service improvement and program management purposes;

• Upon agreement between OMB and the agency all or a subset of information may be released as part of A-11, Section 280 requirements only on performance.gov;

• Summaries of customer research and user testing activities may be included in public-facing customer journey maps or summaries; and

• Additional release of data must be coordinated with OMB.

These responses will inform efforts to improve or maintain the quality of service offered to the public. If this information is not collected, vital feedback from customers and stakeholders on services will be unavailable.

Current Action: New Collection of Information.

Type of Review: New.

Affected Public: Individuals and households; businesses and organizations; State, local, territorial, or Tribal governments.

Estimated Number of Respondents: Below is a preliminary estimate of the aggregate burden hours for this new collection. OMB will provide refined estimates of burden in subsequent notices.

Average Expected Annual Number of Activities: Approximately five types of customer experience activities such as feedback surveys, focus groups, user testing, and interviews.

Average Number of Respondents per Activity: 1 response per respondent per activity.

Annual Responses: 2,001,550.

Average Minutes per Response: 2-60 minutes, dependent upon activity.

Burden Hours: OMB estimates approximately 101,125 burden hours.

Request for Comments: Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. In general, comments submitted in response to this notice will be summarized and/or included in the request for approval of this information collection; they also will become a matter of public record.

Jason S. Miller,
Deputy Director of Management.

[FR Doc. 2022-07977 Filed 4-13-22; 8:45 am]

BILLING CODE 3110-01-P